DEPARTMENT OF TRANSPORTATION

Office of the Secretary

Notice of Applications for Certificates of Public Convenience and Necessity and Foreign Air Carrier Permits Filed Under Subpart B (Formerly Subpart Q) During the Week Ending June 21, 2002

The following Applications for Certificates of Public Convenience and Necessity and Foreign Air Carrier Permits were filed under subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-12543.

Date Filed: June 20, 2002.

Due Date for Answers, Conforming Applications, or Motion to Modify Scope: July 11, 2002.

Description: Application of Hageland Aviation Services, Inc., pursuant to section 401(d) and subpart B, requesting a certificate of public convenience and necessity to engage in interstate scheduled air transportation of persons, property, and mail between any point in any State in the United States or District of Columbia, or any Territory or Possession of the United States, and any other point in any State of the United States or District of Columbia, or any Territory or Possession of the United States.

Docket Number: OST-2002-12551.

Date Filed: June 21, 2002.

Due Date for Answers, Conforming Applications, or Motion to Modify Scope: July 12, 2002.

Description: Application of Air Memphis, pursuant to 49 U.S.C. section 41302, part 211 and subpart B, requesting a foreign air carrier permit to engage in charter air transportation of property and mail between a point or points in the Arab Republic of Egypt, and a point or points in the United States, including service via intermediate stops, beginning on or about July 12, 2002.

Dorothy Y. Beard,
Federal Register Liaison.

[FR Doc. 02-16514 Filed 6-28-02; 8:45 am]

BILLING CODE 4910-62-P